DEPARTMENT OF AGRICULTURE

Food and Nutrition Service

Agency Information Collection Activities: Proposed Collection; Comment Request: Supplemental Nutrition Assistance Program Pre-Screening Tool

AGENCY: Food and Nutrition Service, USDA.

ACTION: Notice.

SUMMARY: In accordance with the Paperwork Reduction Act of 1995, this notice invites the general public and other public agencies to comment on the proposed information collection. This is a revision of a currently approved collection for a web-based pre-screening tool used by the general public to determine potential eligibility for Supplemental Nutrition Assistance Program (SNAP) benefits.

DATES: Written comments must be received on or before November 17, 2014.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including use of appropriate, automated, electronic, mechanical, or other technological collection techniques or other forms of information technology.

Comments may be sent to Sasha Gersten-Paal, Branch Chief, Certification Policy Branch, Program Development Division, Food and Nutrition Service, U.S. Department of Agriculture, 3101 Park Center Drive, Room 812, Alexandria, VA 22302. Comments may also be submitted via fax to the attention of Sasha Gersten-Paal at 703-305-2507 or via email to Sasha.Gersten-Paal@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Sasha Gersten-Paal at (703) 305-2507.

SUPPLEMENTARY INFORMATION:

Title: Supplemental Nutrition Assistance Program Pre-Screening Tool.

OMB Number: 0584-0519.

Expiration Date: January 31, 2015.

Type of Request: Revision of a currently approved collection.

Abstract: In June 2003, the Food and Nutrition Service (FNS) deployed an interactive web-based pre-screening tool that can be utilized by the general public to determine potential eligibility for benefits in the Supplemental Nutrition Assistance Program (SNAP). The tool has been modified since the last revision of this collection to maintain ease of use. Once the user enters household size, income, expenses and resource information, the tool will calculate and provide the user with an estimated range of benefits that the household may be eligible to receive. Since SNAP eligibility and benefit amount may vary by location, FNS makes it clear that the tool is only an estimator and the household will need to contact the local agency to determine actual eligibility and the appropriate benefit amount. Other data collected are:

• State: State or territory in which the user resides;

• Number of People: Number of people living in the household;

• Migrant Workers: Is anyone in the household a seasonal or migrant farm worker;

• Homeless: Is the household homeless or living in a shelter;

• Citizenship: Whether each member is a U.S. citizen;

• Utility expenses: Whether client is billed for utility costs;

Although the tool also requests the name and age of the user, FNS does not retain this information nor does it request other personally identifiable information such as social security numbers, birthdays, etc. of the household members. FNS estimates it will take approximately 402, 534 users about 10 minutes (0.167 hours) to provide the required information to receive potential eligibility benefit information using the pre-screening tool. Users are expected to access the system once for a total annual response of 402,534. FNS estimates 67,223 burden hours for this activity. Once the user logs out of the system, none of the user-provided information is retained by FNS.

In reviewing National Databank program participation data for FY 2012 to FY 2014, it was noted that a peak in household participation occurred in FY 2013. Although we estimated a 1.65 percent difference in participation levels since the last extension of this collection, the trajectory of current participation levels suggests that household participation in SNAP may level off for FY 2014. Based on this analysis, and the number of potential applicants estimated to use the prescreening tool, the current burden inventory is 66,132; FNS projects an annual burden of 67,223 hours, representing an increase of 1,091 hours.

Affected Public: Individuals and Households, potential SNAP clients.

Estimated Number of Respondents: 402,534.

Estimated Number of Responses per Respondent: 1.

Estimated Total Annual Responses: 402,534.

Estimate Time per Response: 0.167.

Estimated Total Annual Burden: 67,223.

Because none of the data entered by users is retained, there is no recordkeeping requirement associated with this information collection.

OMB # 0584-0519 | Requirement | Estimated number of respondents | Responses annually per respondent | Total annual responses | Hours per response | Annual burden hours
Affected Public
Potential SNAP Clients
Reporting burden | Completion of SNAP Prescreening Tool | 402,534 | 1 | 402,534 | 0.167 | 67,223
Reporting totals |  | 402,534 | 1 | 402,534 | 0.167 | 67,223

Dated: September 5, 2014.
Audrey Rowe,
Administrator, Food and Nutrition Service.

[FR Doc. 2014-21948 Filed 9-15-14; 8:45 am]

BILLING CODE 3410-30-P